DEPARTMENT OF ENERGY

Environmental Management Site-Specific Advisory Board, Hanford

AGENCY: Department of Energy.

ACTION: Notice of open meeting.

SUMMARY: This notice announces a meeting of the Environmental Management Site-Specific Advisory Board (EM SSAB), Hanford Site. The Federal Advisory Committee Act (Pub. L. No. 92-463, 86 Stat. 770) requires that public notice of these meetings be announced in the Federal Register.

DATES: Thursday, September 7, 2000, 9 a.m.-5 p.m.; Friday, September 8, 2000, 8:30 a.m.-4 p.m.

ADDRESSES: Radisson Hotel, 17001 Pacific Highway S., Seattle, WA, (206) 244-6000.

FOR FURTHER INFORMATION CONTACT: Gail McClure, Public Involvement Program Manager, Department of Energy Richland Operations Office, P.O. Box 550 (A7-75), Richland, WA, 99352; Phone: (509) 373-5647; Fax: (509) 376-1563.

SUPPLEMENTARY INFORMATION: Purpose of the Board: The purpose of the Board is to make recommendations to DOE and its regulators in the areas of environmental restoration, waste management, and related activities.

Tentative Agenda:

—DOE-RL's Hanford Vision: The River, The Plateau, The Future

—DOE-ORP: Status on Obtaining Tank Waste Treatment Capability, including Status of Consent Decrees

—Spent Fuel Project—Project Update

—DOE—RL, DOE-ORP, Washington Department of Ecology, U.S. Environmental Protection Office identify and discuss the major polity issues for the coming year.

—Environmental Restoration

—300-FF-2 Focused Feasibility Study and Proposed Plan

—Environmental Protection Agency (EPA) Five Year Remedy Review

—Preliminary Report on Hanford Fire

—FY 2001 Performance Incentives

—Updates

—Transuranic Project Management Plan

—WIPP Shipments

—Solid (Radioactive and Hazardous) Waste Draft EIS

—Overview of Site Specific Advisory Board (SSAB) Chairs Meeting

—Hanford Advisory Board Chairperson Transition

Public Participation: The meeting is open to the public. Written statements may be filed with the Board either before or after the meeting. Individuals who wish to make oral statements pertaining to agenda items should contact Gail McClure's office at the address or telephone number listed above. Requests must be received 5 days prior to the meeting and reasonable provision will be made to include the presentation in the agenda. The Deputy Designated Federal Officer is empowered to conduct the meeting in a fashion that will facilitate the orderly conduct of business. Each individual wishing to make public comment will be provided equal time to present their comments.

Minutes: The minutes of this meeting will be available for public review and copying at the Freedom of Information Public Reading Room, 1E-190, Forrestal Building, 1000 Independence Avenue, SW., Washington, DC 20585 between 9 a.m. and 4 p.m., Monday-Friday, except Federal holidays. Minutes will also be available by writing to Gail McClure, Department of Energy Richland Operations Office, P.O. Box 550, Richland, WA 99352, or by calling her at (509) 373-5647.

Issued at Washington, DC, on August 16, 2000.
Rachel M. Samuel,
Deputy Advisory Committee Management Officer.

[FR Doc. 00-21192 Filed 8-18-00; 8:45 am]

BILLING CODE 6450-01-P